DEPARTMENT OF THE INTERIOR

Bureau of Land Management

[ID-130-1430-EU; DB-G07-1009; IDI-33192]

Notice of Realty Action; Non-Competitive (Direct) Sale of Public Land in Owyhee County, ID

AGENCY: Bureau of Land Management, Interior.

ACTION: Notice of realty action.

SUMMARY: A 1,356.55 acre parcel of public land in Owyhee County, Idaho is being considered for non-competitive (direct) sale to Owyhee County under the provisions of the Federal Land Policy Management Act of 1976, at no less than the appraised fair market value.

DATES: Comments must be received by October 4, 2007.

ADDRESSES: Address all comments concerning this notice to Kelley Moore, BLM, Owyhee Field Office, 20 1st Avenue West, Marsing, Idaho 83639.

FOR FURTHER INFORMATION CONTACT: Kelley Moore, Realty Specialist, at the above address or phone (208) 896-5917.

SUPPLEMENTARY INFORMATION: The following described public land in Owyhee County, Idaho, has been examined and found suitable for sale utilizing direct sale procedures under the authority of section 203 and section 209 of the Federal Land Policy and Management Act of 1976, (90 Stat. 2750, 43 U.S.C. 1713 and 1719):

Boise Meridian, Idaho

T. 2 N., R. 4 W.,

Sec. 20, SW¼NE¼, SE¼NW¼, NE¼SW¼, S½SW¼, N½SE¼, SW¼SE¼, and W½SE¼SE¼;

Sec. 29, lots 1, 2, 3, 4, NW¼, SE¼SW¼, and SW¼SE¼;

Sec. 32, lots 1 to 12, inclusive, W½NE¼, E½NW¼, N½NE¼SW¼, and N½NW¼SE¼.

The area described contains 1,356.55 acres in Owyhee County.

The 1999 BLM Owyhee Resource Management Plan identified this parcel of public land as suitable for disposal. On August 20, 2007, the above described land will be segregated from all forms of appropriation under the public land laws, including the mining laws, except the sale provisions of the Federal Land Policy and Management Act (FLPMA). The segregative effect will terminate upon issuance of a patent, publication in the Federal Register of a termination of the segregation, or August 20, 2009, whichever comes first.

The public land will not be offered for sale until October 19, 2007 at the appraised fair market value of $203,500.00. A copy of the approved appraisal is available at the above address. The patent, if issued, will be subject to the following terms, conditions and reservations: (1) A reservation to the United States for ditches and canals; (2) a reservation to the United States of a 175′ wide right-of-way to PacifiCorp Property Management for a 500 kV transmission line, IDI-8875; (3) a reservation to the United States of a 40′ wide right-of-way to Idaho Power Company for a 69 kV power line, IDBL-056088; (4) a 2 year reservation for grazing; and (5) subject to a road right-of-way to Gem Highway District for Sommercamp Road, IDI-22579.

This land is being offered by direct sale to Owyhee County pursuant to 43 CFR 2711.3-3 to construct, operate and maintain a municipal solid waste facility (landfill) to serve the residents of Owyhee County and accommodate community growth and expansion. To provide for future landfill space needs, Owyhee County contracted a study to locate a suitable site in the northwest part of the County. A site on public land south of Marsing, Idaho, was recommended. Owyhee County has purchased space in the regional depository and landfill site at the Pickle's Butte landfill in Canyon County, Idaho, but that site is filling up much more quickly than previously projected, resulting in a future landfill space issue for Owyhee County.

In the event of a sale, the unreserved mineral interests will be conveyed simultaneously with the sale of the land. These unreserved mineral interests have been determined to have no known mineral value pursuant to 43 CFR 2720.2(a). Acceptance of the sale offer will constitute an application for conveyance of those unreserved mineral interests. The purchaser will be required to pay a $50.00 non-refundable filing fee for conveyance of the available mineral interests. The purchaser will have 30 days from the date of receiving the sale offer to accept the offer and to submit a deposit of 10 percent of the purchase price and the $50.00 filing fee for conveyance of mineral interests. The purchaser must remit the remainder of the purchase price within 180 days from the date the sale offer is received. Payments must be by certified check, postal money order, bank draft or cashiers check payable to the U.S. Department of the Interior—BLM. Failure to meet conditions established for this sale will void the sale and any monies received will be forfeited.

Public Comments

For a period until October 4, 2007, interested parties and the general public may submit written comments to the BLM Owyhee Field Office at the address above. Comments, including names and street addresses of respondents, will be available for public review at the BLM Owyhee Field Office during regular business hours, except holidays. Before including your address, phone number, e-mail address, or other personal identifying information in your comment, you should be aware that your entire comment—including your personal identifying information—may be made publicly available at any time. While you can ask us in your comment to withhold your personal identifying information from public review, we cannot guarantee that we will be able to do so.

Any adverse comments will be reviewed by the BLM Idaho State Director, who may sustain, vacate, or modify this realty action and issue a final determination. In the absence of any objections, this realty action will become the final determination of the Department of the Interior.

(Authority: 43 CFR 2711.1-2(a))

Mark A. Lane,
Owyhee Field Manager.

[FR Doc. E7-16353 Filed 8-17-07; 8:45 am]

BILLING CODE 4310-GG-P